DEPARTMENT OF THE TREASURY

Office of Foreign Assets Control

Sanctions Actions Pursuant to the Foreign Narcotics Kingpin Designation Act and Executive Order 12978

AGENCY: Office of Foreign Assets Control, Treasury.

ACTION: Notice.

SUMMARY: The Department of the Treasury's Office of Foreign Assets Control (OFAC) is publishing the names of persons whose property and interests in property have been unblocked pursuant to the Foreign Narcotics Kingpin Designation Act (Kingpin Act), or Executive Order 12978 of October 21, 1995, “Blocking Assets and Prohibiting Transactions With Significant Narcotics Traffickers.” Additionally, OFAC is publishing an update to the identifying information of persons currently included in the list of Specially Designated Nationals and Blocked Persons (SDN List).

DATES: OFAC's actions described in this notice were effective on November 18, 2016.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On November 18, 2016, OFAC removed from the SDN List the persons listed below, whose property and interests in property were blocked pursuant to the Kingpin Act or Executive Order 12978.

Individuals

1. ABAROA DIAZ, Victor Manuel, c/o TIENDA MARINA ABAROA, La Paz, Baja California Sur, Mexico; C. Antonio Navarro S/N, Col. Centro, La Paz, Baja California Sur 23000, Mexico; DOB 30 May 1955; POB La Paz, Baja California Sur, Mexico; nationality Mexico; citizen Mexico; R.F.C. AADV550530UQ0 (Mexico); C.U.R.P. AADV550530HBSBZC00 (Mexico) (individual) [SDNTK].

2. ABAROA PRECIADO, Aristoteles (a.k.a. ABAROA PRECIADO, Aristoteles Alejandro), La Paz, Baja California Sur, Mexico; DOB 29 Sep 1981; POB La Paz, Baja California Sur, Mexico; nationality Mexico; citizen Mexico; C.U.R.P. AAPA810929HBSBRR19 (Mexico) (individual) [SDNTK].

3. ABAROA PRECIADO, Rosa Yolanda Nabila, Ave. Mariano Abasolo S/N Barr, La Paz, Baja California Sur 23060, Mexico; DOB 19 May 1985; POB Baja California Sur, Mexico; nationality Mexico; citizen Mexico; Passport 05070005312 (Mexico); C.U.R.P. AAPR850519MBSBRS00 (Mexico) (individual) [SDNTK].

4. ABAROA PRECIADO, Victor Hussein, C. Antonio Navarro S/N, La Paz, Baja California Sur 23000, Mexico; DOB 23 Jun 1978; POB La Paz, Baja California Sur, Mexico; nationality Mexico; citizen Mexico; C.U.R.P. AAPV780623HBSBRC09 (Mexico) (individual) [SDNTK].

5. GRAJALES HERNANDEZ, Alvaro Octavio, c/o C.A.D. S.A., Bogota, Colombia; c/o CRETA S.A., La Union, Valle Colombia; c/o GRAJALES S.A., La Union, Valle, Colombia; Cedula No. 19465707 (Colombia) (individual) [SDNT].

6. PRECIADO GAMEZ, Elia Yolanda, La Paz, Baja California Sur, Mexico; DOB 25 Feb 1954; POB Ahome, Sinaloa, Mexico; nationality Mexico; citizen Mexico; C.U.R.P. PEGE540225MSLRML03 (Mexico) (individual) [SDNTK].

7. TORRES GOMEZ, Enrique (a.k.a. TORRES TORRES, Enrique), Sanchez Colin No. 34 102-B, Providencia Azcapotzalco, Delegacion Azcapotzalco, Mexico City, Distrito Federal, Mexico; Guadalajara, Jalisco, Mexico; DOB 14 Mar 1956; POB Veracruz, Mexico; nationality Mexico; citizen Mexico; Passport 9844001514 (Mexico); R.F.C. TOGE-560314 (Mexico); C.U.R.P. TOGE560314HVZRMN09 (Mexico) (individual) [SDNTK].

8. VELARDE SARABIA, Antonio, Calle Hidalgo No. 537 Oriente, Col. Centro, Culiacan, Sinaloa, Mexico; c/o COMERCIAL JOANA, S.A. DE C.V., Guadalajara, Jalisco, Mexico; c/o COMERCIALIZADORA TOQUIN, S.A. DE. C.V., Guadalajara, Jalisco, Mexico; c/o COMERCIAL DOMELY, S.A. DE C.V., Toluca, Mexico, Mexico; DOB 27 Oct 1977; nationality Mexico; citizen Mexico; R.F.C. VESA771027B50 (Mexico) (individual) [SDNTK].

Entities

1. IMPORTADORA MADURO, S.A., Panama; RUC # 558-472-101708 (Panama) [SDNTK].

2. LUZAAIR, S.A. DE C.V., Mexico City, Mexico; Folio Mercantil No. 354246 (Mexico) [SDNTK].

3. MADURO INTERNACIONAL, S.A., Panama; RUC # 5651-184-69069 (Panama) [SDNTK].

4. TIENDA MARINA ABAROA (a.k.a. ABAROA FOX MARINE; a.k.a. MATERIALES Y REFACCIONES ABAROA), Abasolo S/N, Col. El Manglito, La Paz, Baja California Sur 23060, Mexico; Leona Vicario 1000 E/Alvaro Obregon, Benito Juarez, Cabo San Lucas, Baja California Sur 23469, Mexico; R.F.C. AADV55053OUQO (Mexico) [SDNTK].

Additionally, on November 18, 2016, OFAC updated the SDN List for the persons listed below, whose property and interests in property continue to be blocked pursuant to the Kingpin Act.

Individuals

1. BRICENO SUAREZ, Jorge (a.k.a. BRICENO SUAREZ, Jorge Enrique; a.k.a. MONO JOJOY; a.k.a. OSCAR RIANO; a.k.a. SUAREZ ROJAS, Victor Julio; a.k.a. SUAREZ, Luis); DOB Jan 1953; alt. DOB 01 Feb 1949; alt. DOB 02 Jan 1951; alt. DOB 05 Feb 1953; POB Santa Marta, Magdalena, Colombia; alt. POB Cabrera, Cundinamarca, Colombia; Cedula No. 12536519 (Colombia); alt. Cedula No. 19208210 (Colombia); alt. Cedula No. 17708695 (Colombia); alt. Cedula No. 70753211 (Colombia) (individual) [SDNTK].

-to-

BRICENO SUAREZ, Jorge (a.k.a. BRICENO SUAREZ, Jorge Enrique; a.k.a. “MONO JOJOY”; a.k.a. “OSCAR RIANO”; a.k.a. SUAREZ ROJAS, Victor Julio; a.k.a. “SUAREZ, Luis”); DOB Jan 1953; alt. DOB 01 Feb 1949; alt. DOB 02 Jan 1951; alt. DOB 05 Feb 1953; POB Santa Marta, Magdalena, Colombia; alt. POB Cabrera, Cundinamarca, Colombia; Cedula No. 12536519 (Colombia); alt. Cedula No. 19208210 (Colombia); alt. Cedula No. 17708695 (Colombia) (individual) [SDNTK].

2. TONCEL REDONDO, Milton De Jesus (a.k.a. “EL NEGRO”; a.k.a. “JOAQUIN GOMEZ”; a.k.a. “ORO CHURCO”; a.k.a. “USURRIAGA”); DOB 18 Mar 1947; alt. DOB Feb 1949; POB Barrancas, La Guajira, Colombia; alt. POB Ubita, Boyaca, Colombia; Cedula No. 15237742 (Colombia); alt. Cedula No. 70753211 (Colombia) (individual) [SDNTK].

-to-

TONCEL REDONDO, Milton De Jesus (a.k.a. “EL NEGRO”; a.k.a. “JOAQUIN GOMEZ”; a.k.a. “ORO CHURCO”; a.k.a. “USURRIAGA”); DOB 18 Mar 1947; alt. DOB Feb 1949; POB Barrancas, La Guajira, Colombia; alt. POB Ubita, Boyaca, Colombia; Cedula No. 15237742 (Colombia) (individual) [SDNTK].

Entity

1. V.P. PROPERTIES, INC., Panama; RUC # 2384195-1-802594 (Panama) [SDNTK].

-to-

V.P. PROPERTIES, INC., Panama; RUC # 2088592-1-754706 (Panama) [SDNTK].

Dated: November 18, 2016.
Gregory T. Gatjanis,
Associate Director, Office of Global Targeting, Office of Foreign Assets Control.

[FR Doc. 2016-28282 Filed 11-23-16; 8:45 am]

BILLING CODE 4810-AL-P